DEPARTMENT OF ENERGY

Federal Energy Regulatory Commission

Combined Notice of Filings

Take notice that the Commission has received the following Natural Gas Pipeline Rate and Refund Report filings:

Docket Numbers: RP20-460-001.

Applicants: Cameron Interstate Pipeline, LLC.

Description: Tariff Amendment: Amendment to Rate Schedule PAL, Tariff Updates, and Housekeeping Revisions to be effective 3/1/2020.

Filed Date: 1/30/20.

Accession Number: 20200130-5143.

Comments Due: 5 p.m. ET 2/11/20.

Docket Numbers: RP20-462-000.

Applicants: NEXUS Gas Transmission, LLC.

Description: § 4(d) Rate Filing: Negotiated Rate—DTE Gas 860003 Release to Eco-Energy to be effective 2/1/2020.

Filed Date: 1/30/20.

Accession Number: 20200130-5002.

Comments Due: 5 p.m. ET 2/11/20.

Docket Numbers: RP20-463-000.

Applicants: Ruby Pipeline, L.L.C.

Description: § 4(d) Rate Filing: Fuel Lost and Unaccounted for and Electric Power Charge Update to be effective 3/1/2020.

Filed Date: 1/30/20.

Accession Number: 20200130-5038.

Comments Due: 5 p.m. ET 2/11/20.

Docket Numbers: RP20-464-000.

Applicants: Wyoming Interstate Company, L.L.C.

Description: § 4(d) Rate Filing: Fuel and Lost and Unaccounted for Update to be effective 3/1/2020.

Filed Date: 1/30/20.

Accession Number: 20200130-5039.

Comments Due: 5 p.m. ET 2/11/20.

Docket Numbers: RP20-465-000.

Applicants: Transcontinental Gas Pipe Line Company, LLC.

Description: § 4(d) Rate Filing: Negotiated Rates—Cherokee AGL—Replacement Shippers—Feb 2020 to be effective 2/1/2020.

Filed Date: 1/30/20.

Accession Number: 20200130-5041.

Comments Due: 5 p.m. ET 2/11/20.

Docket Numbers: RP20-466-000.

Applicants: El Paso Natural Gas Company, L.L.C.

Description: § 4(d) Rate Filing: Negotiated Rate Agreement Update (SRP 2020) to be effective 3/1/2020.

Filed Date: 1/30/20.

Accession Number: 20200130-5116.

Comments Due: 5 p.m. ET 2/11/20.

Docket Numbers: RP20-467-000.

Applicants: Dominion Energy Cove Point LNG, LP.

Description: § 4(d) Rate Filing: DECP—2020 Section 4 General Rate Case to be effective 3/1/2020.

Filed Date: 1/30/20.

Accession Number: 20200130-5117.

Comments Due: 5 p.m. ET 2/11/20.

Docket Numbers: RP20-468-000.

Applicants: Tallgrass Interstate Gas Transmission, LLC.

Description: § 4(d) Rate Filing: TIGT 2020-01-30 Non-Conforming Agreement to be effective 2/1/2020.

Filed Date: 1/30/20.

Accession Number: 20200130-5119.

Comments Due: 5 p.m. ET 2/11/20.

Docket Numbers: RP20-469-000.

Applicants: TransColorado Gas Transmission Company LLC.

Description: § 4(d) Rate Filing: Transfer Nomination and Housekeeping Update Filing to be effective 3/1/2020.

Filed Date: 1/30/20.

Accession Number: 20200130-5129.

Comments Due: 5 p.m. ET 2/11/20.

Docket Numbers: RP20-470-000.

Applicants: Southern Star Central Gas Pipeline, Inc.

Description: § 4(d) Rate Filing: Annual Modernization Capital Cost Recovery Mechanism to be effective 3/1/2020.

Filed Date: 1/30/20.

Accession Number: 20200130-5136.

Comments Due: 5 p.m. ET 2/11/20.

Docket Numbers: RP20-471-000.

Applicants: Texas Eastern Transmission, LP.

Description: § 4(d) Rate Filing: Negotiated Rate—PSEG to PSEG Energy eff 2-1-2020 to be effective 2/1/2020.

Filed Date: 1/30/20.

Accession Number: 20200130-5139.

Comments Due: 5 p.m. ET 2/11/20.

Docket Numbers: RP20-472-000.

Applicants: Cameron Interstate Pipeline, LLC.

Description: § 4(d) Rate Filing: Cameron Interstate Pipeline, LLC Annual Adjustment of Fuel Retainage Percentage to be effective 3/1/2020.

Filed Date: 1/30/20.

Accession Number: 20200130-5142.

Comments Due: 5 p.m. ET 2/11/20.

Docket Numbers: RP20-473-000.

Applicants: NEXUS Gas Transmission, LLC.

Description: § 4(d) Rate Filing: Negotiated Rates—Columbia Gas 860005 Releases eff 2-1-2020 to be effective 2/1/2020.

Filed Date: 1/31/20.

Accession Number: 20200131-5000.

Comments Due: 5 p.m. ET 2/12/20.

Docket Numbers: RP20-474-000.

Applicants: Kinder Morgan Louisiana Pipeline LLC.

Description: Compliance filing Penalty Revenue Crediting Report.

Filed Date: 1/31/20.

Accession Number: 20200131-5032.

Comments Due: 5 p.m. ET 2/12/20.

Docket Numbers: RP20-475-000.

Applicants: Gulf South Pipeline Company, LLC.

Description: § 4(d) Rate Filing: Cap Rel Neg Rate Agmts (Aethon to Scona eff 2-1-2020) to be effective 2/1/2020.

Filed Date: 1/31/20.

Accession Number: 20200131-5046.

Comments Due: 5 p.m. ET 2/12/20.

Docket Numbers: RP20-476-000.

Applicants: Gulf South Pipeline Company, LLC.

Description: § 4(d) Rate Filing: Cap Rel Neg Rate Agmts (Osaka 46429 to Texla 52222, ConocoPhillips 52224) to be effective 2/1/2020.

Filed Date: 1/31/20.

Accession Number: 20200131-5047.

Comments Due: 5 p.m. ET 2/12/20.

Docket Numbers: RP20-477-000.

Applicants: Columbia Gas Transmission, LLC.

Description: § 4(d) Rate Filing: TCO Antero Negotiated Rate Amendments to be effective 2/1/2020.

Filed Date: 1/31/20.

Accession Number: 20200131-5068.

Comments Due: 5 p.m. ET 2/12/20.

Docket Numbers: RP20-478-000.

Applicants: Northern Natural Gas Company.

Description: § 4(d) Rate Filing: 20200131 Annual PRA to be effective 4/1/2020.

Filed Date: 1/31/20.

Accession Number: 20200131-5204.

Comments Due: 5 p.m. ET 2/12/20.

Docket Numbers: RP20-479-000.

Applicants: Rockies Express Pipeline LLC.

Description: § 4(d) Rate Filing: REX 2020-01-31 Negotiated Rate Agreements to be effective 2/1/2020.

Filed Date: 1/31/20.

Accession Number: 20200131-5087.

Comments Due: 5 p.m. ET 2/12/20.

Docket Numbers: RP20-480-000.

Applicants: Northern Natural Gas Company.

Description: § 4(d) Rate Filing: 20200131 Negotiated Rate to be effective 2/1/2020.

Filed Date: 1/31/20.

Accession Number: 20200131-5118.

Comments Due: 5 p.m. ET 2/12/20.

Docket Numbers: RP20-482-000.

Applicants: Rover Pipeline LLC.

Description: § 4(d) Rate Filing: Summary of Negotiated Rate Capacity Release Agreements on 2-3-20 to be effective 2/1/2020.

Filed Date: 2/3/20.

Accession Number: 20200203-5004.

Comments Due: 5 p.m. ET 2/18/20.

Docket Numbers: RP20-483-000.

Applicants: Transwestern Pipeline Company, LLC.

Description: Compliance filing Alert Day Penalty Report on 2-3-2020.

Filed Date: 2/3/20.

Accession Number: 20200203-5028.

Comments Due: 5 p.m. ET 2/18/20.

Docket Numbers: RP20-484-000.

Applicants: Equitrans, L.P.

Description: § 4(d) Rate Filing: Negotiated Rate Agreements—CPA 4/1/2020 to be effective 4/1/2020.

Filed Date: 2/3/20.

Accession Number: 20200203-5030.

Comments Due: 5 p.m. ET 2/18/20.

Docket Numbers: RP20-485-000.

Applicants: Transcontinental Gas Pipe Line Company, LLC.

Description: § 4(d) Rate Filing: Rate Schedules LSS and SS-2 Tracker Filing eff February 1, 2020 to be effective 2/1/2020.

Filed Date: 2/3/20.

Accession Number: 20200203-5032.

Comments Due: 5 p.m. ET 2/18/20.

Docket Numbers: RP20-486-000.

Applicants: Equitrans, L.P.

Description: § 4(d) Rate Filing: Negotiated Capacity Release Agreements—2/1/2020 to be effective 2/1/2020.

Filed Date: 2/3/20.

Accession Number: 20200203-5033.

Comments Due: 5 p.m. ET 2/18/20.

Docket Numbers: RP20-487-000.

Applicants: Gulf South Pipeline Company, LLC.

Description: § 4(d) Rate Filing: Cap Rel Neg Rate Agmts (Atlanta 8438 releases eff 2-1-2020) to be effective 2/1/2020.

Filed Date: 2/3/20.

Accession Number: 20200203-5104.

Comments Due: 5 p.m. ET 2/18/20.

Docket Numbers: RP20-488-000.

Applicants: Gulf South Pipeline Company, LLC.

Description: § 4(d) Rate Filing: Cap Rel Neg Rate Agmt (Constellation 52187 to Exelon 52221) to be effective 2/1/2020.

Filed Date: 2/3/20.

Accession Number: 20200203-5105.

Comments Due: 5 p.m. ET 2/18/20.

Docket Numbers: RP20-489-000.

Applicants: Gulf South Pipeline Company, LLC.

Description: § 4(d) Rate Filing: Amendment to Neg Rate Agmt (Koch 51776) to be effective 2/1/2020.

Filed Date: 2/3/20.

Accession Number: 20200203-5106.

Comments Due: 5 p.m. ET 2/18/20.

Docket Numbers: RP20-490-000.

Applicants: LA Storage, LLC.

Description: § 4(d) Rate Filing: Filing of Negotiated Rate, Conforming IW Agreements to be effective 2/3/2020.

Filed Date: 2/3/20.

Accession Number: 20200203-5162.

Comments Due: 5 p.m. ET 2/18/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 4, 2020.
Nathaniel J. Davis, Sr.,
Deputy Secretary.

[FR Doc. 2020-02557 Filed 2-7-20; 8:45 am]

BILLING CODE 6717-01-P